DEPARTMENT OF COMMERCE

International Trade Administration

[A-489-501]

Circular Welded Carbon Steel Standard Pipe and Tube Products from Turkey: Final Results of Antidumping Duty Administrative Review and Final Determination of No Shipments; 2018-2019

AGENCY: Enforcement and Compliance, International Trade Administration, Department of Commerce.

SUMMARY: The Department of Commerce (Commerce) determines that producers and/or exporters subject to this administrative review made sales of subject merchandise at less than normal value during the period of review (POR), May 1, 2018, through April 30, 2019.

DATES: Applicable March 22, 2021.

FOR FURTHER INFORMATION CONTACT: Magd Zalok, AD/CVD Operations, Office IV, Enforcement and Compliance, International Trade Administration, U.S. Department of Commerce, 1401 Constitution Avenue NW, Washington, DC 20230; telephone: (202) 482-4162.

SUPPLEMENTARY INFORMATION:

Background

Commerce published the Preliminary Results of this administrative review on July 23, 2020.¹ This administrative review covers 21 producers and/or exporters of the subject merchandise.² Commerce selected Borusan for individual examination.³ The producers/exporters not selected for individual examination are listed in the “Final Results of the Review” section of this notice.

¹ See Circular Welded Carbon Steel Standard Pipe and Tube Products from Turkey: Preliminary Results of Antidumping Duty Administrative Review and Preliminary Determination of No Shipments; 2018-2019, 85 FR 44509 (July 23, 2020) (Preliminary Results).

² This review covers the following companies: Borusan Mannesmann Boru Sanayi ve Ticaret A.S. (Borusan Mannesmann) and Borusan Istikbal Ticaret T.A.S. (Borusan Istikbal) (collectively, Borusan); Toscelik Profil ve Sac Endustrisi A.S. (Toscelik Endustrisi), Tosyali Dis Ticaret A.S. (Tosyali Ticaret), and Toscelik Metal Ticaret A.S. (Toscelik Metal) (collectively, Toscelik); Borusan Birlesik Boru Fabrikalari San ve Tic (Borusan Birlesik); Borusan Gemlik Boru Tesisleri A.S. (Borusan Gemlik); Borusan Holding (BMBYH), Borusan Ihracat Ithalat ve Dagitim A.S. (Borusan Ihracat); Borusan Ithicat ve Dagitim A.S. (Borusan Ithicat); Borusan Mannesmann Yatirim Holding (BMYH), Tubeco Pipe and Steel Corporation (Tubeco); Erbosan Erciyas Boru Sanayi ve Ticaret A.S. (Erbosan); Kale Baglanti Teknolojileri San. ve Tic. A.S. (Kale Baglanti), Noksel Selik Boru Sanayi A.S. (Noksel Selik), Yucel Boru ve Profil Endustrisi A.S. (Yucel), Yucelboru Ihracat Ithalat ve Pazarlama A.S. (Yucelboru), Cayirova Boru Sanayi ve Ticaret A.S. (Cayirova), Kale Baglann Teknolojileri San. Ve Tic. A.S. (Kale Baglann), Borusan Istikbal Ticaret (Istikbal Ticaret) and Cinar Boru Profil San. ve Tic. As (Cinar Boru).

³ In prior segments of this proceeding, we treated Borusan Mannesmann Boru Sanayi ve Ticaret A.S. and Borusan Istikbal Ticaret T.A.S. as a single entity. See, e.g., Welded Carbon Steel Standard Pipe and Tube Products from Turkey: Final Results of Antidumping Duty Administrative Review and Final Determination of No Shipments; 2013-2014, 80 FR 76674, 76674 n.2 (December 10, 2015). We determined that there is no evidence in this proceeding's record for altering our treatment of Borusan Mannesmann Boru Sanayi ve Ticaret A.S. and Borusan Istikbal Ticaret T.A.S., as a single entity. The record does not support treating the following companies as part of the Borusan Mannesmann Boru Sanayi ve Ticaret A.S./Borusan Istikbal Ticaret T.A.S. entity: (1) Borusan Birlesik; (2) Borusan Gemlik; (3) Borusan Ihracat; (4) Borusan Ithicat; and (5) Tubeco. Accordingly, as discussed infra, each of these five companies will be assigned the rate applicable to companies not selected for individual examination in this administrative review.

On April 24, 2020, Commerce tolled all deadlines in administrative reviews by 50 days.⁴ On July 21, 2020, Commerce tolled all deadlines in administrative reviews by an additional 60 days.⁵ On September 15, 2020, we received a case brief from Borusan.⁶ On September 30, 2020, we received rebuttal briefs from the petitioner.⁷

⁴ See Memorandum, “Tolling of Deadlines for Antidumping and Countervailing Duty Administrative Reviews in Response to Operational Adjustments Due to COVID-19,” dated April 24, 2020.

⁵ See Memorandum, “Tolling of Deadlines for Antidumping and Countervailing Duty Administrative Reviews,” dated July 21, 2020.

⁶ See Borusan's Letter, “Circular Welded Carbon Steel Pipes and Tubes from Turkey, Case No. A-489-501: Case Brief,” dated September 15, 2020.

⁷ The petitioner is Wheatland Tube. See Petitioner's Letter, “Welded Carbon Steel Standard Pipe and Tube Products from Turkey: Rebuttal Brief,” dated September 30, 2020.

On January 13, 2021, Commerce extended the final results of this review by 60 days.⁸ The deadline for the final results of this review is now March 18, 2021.

⁸ See Memorandum, “2018-2019 Antidumping Duty Administrative Review of Circular Welded Carbon Steel Standard Pipe and Tube Products from Turkey: Extension of Deadline for Final Results of Antidumping Duty Administrative Review,” dated January 13, 2021.

Commerce conducted this administrative review in accordance with section 751 of the Tariff Act of 1930, as amended (the Act).

Scope of the Order

The products covered by this order are welded carbon steel standard pipe and tube products from Turkey. For a full description of the scope, see the Issues and Decision Memorandum (IDM).

Analysis of Comments Received

All issues raised in the case and rebuttal briefs filed in this administrative review are addressed in the IDM. A list of the topics discussed in the IDM is appended to this notice. The IDM is a public document and is available electronically via Enforcement and Compliance's Antidumping and Countervailing Duty Centralized Electronic Services System (ACCESS). ACCESS is available to registered users at http://access.trade.gov. In addition, a complete version of the IDM is also accessible at http://enforcement.trade.gov/frn/index.html. The signed IDM and the electronic version of the IDM are identical in content.

Changes Since the Preliminary Results

Based on a review of the record and comments received from interested parties regarding our Preliminary Results, we made no changes to the preliminary weighted-average margin calculations for Borusan and for those companies not selected for individual review.⁹

⁹ See accompanying IDM.

Final Determination of No Shipment

In the Preliminary Results, we found that the following eight companies made no shipment of the subject merchandise to the United States during the POR: (1) Cinar Boru; (2) Noksel Selik; (3) Cayirova; (4) Yucel; (5) Yucelboru; (6) Toscelik Endustrisi A.S.; (7) Tosyali Ticaret; and (8) Toscelik Metal. No parties commented on this determination. For the final results of review, we continue to find that these companies made no shipment of subject merchandise to the United States during the POR.

Final Results of the Review

As a result of this administrative review, we are assigning the following weighted-average dumping margins to the manufacturers/exporters listed below for the period of May 1, 2018 through April 30, 2019:

Producers/exporters | Weighted- average dumping margin (percent)
Borusan Mannesmann Boru Sanayi ve Ticaret A.S./Borusan Istikbal Ticaret T.A.S | 12.03
Borusan Birlesik Boru Fabrikalari San ve Tic | 12.03
Borusan Gemlik Boru Tesisleri A.S | 12.03
Borusan Holding | 12.03
Borusan Ihracat Ithalat ve Dagitim A.S | 12.03
Borusan Ithicat ve Dagitim A.S | 12.03
Borusan Mannesmann Yatirim Holding | 12.03
Tubeco Pipe and Steel Corporation | 12.03
Erbosan Erciyas Boru Sanayi ve Ticaret A.S | 12.03
Kale Baglanti Teknolojileri San. ve Tic. A.S | 12.03
Kale Baglann Teknolojileri San. Ve Tic. A.S | 12.03
Istikbal Ticaret | 12.03

Disclosure

Commerce intends to disclose the calculations performed for these final results of review within five days of the date of publication of this notice in the Federal Register, in accordance with 19 CFR 351.224(b).

Assessment Rates

Pursuant to section 751(a)(2)(A) of the Act and 19 CFR 351.212(b)(1), Commerce has determined, and U.S. Customs and Border Protection (CBP) shall assess, antidumping duties on all appropriate entries of subject merchandise in accordance with the final results of this review.¹⁰ Commerce calculated importer-specific ad valorem AD assessment rates for Borusan by aggregating for each importer identified for the reported sales, the total amount of dumping calculated for the sales for which that importer was identified and dividing each of these amounts by the total entered value of those sales. Commerce will instruct CBP to assess antidumping duties on all appropriate entries covered by this review where an importer-specific assessment rate is not zero or de minimis.

¹⁰ In these final results, Commerce applied the assessment rate calculation methodology adopted in Antidumping Proceeding: Calculation of the Weighted-Average Dumping Margin and Assessment Rate in Certain Antidumping Proceedings: Final Modification, 77 FR 8101 (February 14, 2012).

In this review, we have calculated weighted-average dumping margin of 12.03 percent for Borusan. When only one weighted-average dumping margin for the individually investigated respondents is not zero, de minimis, or based entirely on facts available, the rate for companies that we did not individually examine will be equal to that single weighted-average dumping margin. Accordingly, we have assigned to Borusan Birlesik; Borusan Gemlik; BMBYH; Borusan Ihracat; Borusan Ithicat; BMYH; Tubeco; Erbosan; Kale Baglanti; Kale Baglann; and Istikbal Ticaret, companies not individually examined in this review a margin of 12.03 percent, which is the calculated weighted average dumping margin of Borusan.

For entries of subject merchandise during the POR produced by Borusan for which it did not know its merchandise was destined for the United States, and for entries associated with the seven companies for which Commerce found “no shipments” during the POR, Commerce will instruct CBP to liquidate such unreviewed entries at the all-others rate if there is no rate for the intermediate company(ies) involved in the transactions.¹¹

¹¹ For a full discussion of this clarification, see Antidumping and Countervailing Duty Proceedings: Assessment of Antidumping Duties, 68 FR 23954 (May 6, 2003).

Consistent with its recent notice,¹² Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

¹² See Notice of Discontinuation of Policy to Issue Liquidation Instructions After 15 Days in Applicable Antidumping and Countervailing Duty Administrative Proceedings, 86 FR 3995 (January 2021).

Cash Deposit Requirements

The following cash deposit requirements will be effective upon publication of this notice of final results of administrative review in the Federal Register for all shipments of subject merchandise entered, or withdrawn from warehouse for consumption on or after the date of publication of the notice, as provided by section 751(a)(2)(C) of the Act: (1) The cash deposit rate for Borusan is equal to the weighted-average dumping margin determined in the final results of review; (2) for previously reviewed or investigated companies not listed in the table above, the cash deposit rate will continue to be the company-specific rate published for the most recently completed segment of this proceeding; (3) if the exporter was not covered in this review, a prior completed review, or the investigation, but the producer was covered, the cash deposit rate will be the rate established in the most recently completed segment of this proceeding for the producer of the subject merchandise; and (4) the cash deposit rate for all other producers or exporters will continue to be 14.74 percent ad valorem, the all-others rate established in the investigation in this proceeding.¹³ These cash deposit requirements, when imposed, shall remain in effect until further notice.

¹³ See Antidumping Duty Order; Welded Carbon Steel Standard Pipe and Tube Products from Turkey, 51 FR 17784 (May 15, 1986).

Notification to Importers Regarding the Reimbursement of Duties

This notice serves as a final reminder to importers of their responsibility under 19 CFR 351.402(f)(2) to file a certificate regarding the reimbursement of antidumping duties prior to liquidation of the relevant POR entries. Failure to comply with this requirement could result in Commerce's presumption that reimbursement of antidumping duties occurred and the subsequent assessment of doubled antidumping duties.

Notification Regarding Administrative Protective Order

This notice serves as the only reminder to parties subject to administrative protective order (APO) of their responsibility concerning the return or destruction of proprietary information disclosed under the APO in accordance with 19 CFR 351.305(a)(3), which continues to govern business proprietary information in this segment of the proceeding. Timely written notification of the return or destruction of APO materials or conversion to judicial protective order is hereby requested. Failure to comply with the regulations and terms of an APO is a sanctionable violation.

Notification to Interested Parties

We are issuing and publishing this notice in accordance with sections 751(a)(1) and 777(i) of the Act and 19 CFR 351.221(b)(5).

Dated: March 15, 2021.
Christian Marsh,
Acting Assistant Secretary for Enforcement and Compliance.

Appendix

List of Topics Discussed in the IDM

I. Summary

II. Background

III. Scope of the Order

IV. Discussion of the Issues

Comment 1: High Inflation Methodology

Comment 2: Section 232 Duties

V. Recommendation

[FR Doc. 2021-05814 Filed 3-19-21; 8:45 am]

BILLING CODE 3510-DS-P